DEPARTMENT OF AGRICULTURE

Rural Utilities Service

7 CFR Part 1776

RIN 0572-AB93

Withdrawal of Direct Final Rule for the Household Water Well System Grant Program

AGENCY: Rural Utilities Service, USDA.

ACTION: Withdrawal of direct final rule.

SUMMARY: The Rural Utilities Service (RUS) is withdrawing the direct final rule for the Household Water Well System Grant Program that was published on October 6, 2004 (69 FR 59764). RUS stated in the direct final rule that if it received adverse comment by November 5, 2004, the agency would publish a timely notice of withdrawal in the Federal Register. RUS subsequently received adverse comments and, therefore, is withdrawing the direct final rule. RUS will address those comments in a subsequent final action based on the parallel proposal also published on October 6, 2004 (69 FR 59836). As stated in the parallel proposal, RUS will not institute a second comment period on this action.

DATES: Effective Date: The direct final rule published on October 6, 2004, at 69 FR 59764 is withdrawn as of November 17, 2004.

FOR FURTHER INFORMATION CONTACT: Cheryl Francis, Loan Specialist, Water Programs Division, Rural Utilities Service, U.S. Department of Agriculture, 1400 Independence Avenue, SW., Room 2239-S, Stop 1570, Washington, DC 20250-1570. Telephone (202) 720-1937. E-Mail: Cheryl.Francis@usda.gov.

SUPPLEMENTARY INFORMATION: RUS published a direct final rule on October 6, 2004, to issue regulations to establish the Household Water System Program as authorized by section 306E of the Consolidated Farm and Rural Development Act (CONACT). The direct final rule was to establish a lending program for the construction, refurbishing, and servicing of individually-owned household water well systems in rural areas that are or will be owned by the eligible individuals. In addition, the rule outlined the process by which applicants could apply for the program and how RUS would administer the grant program.

RUS published a companion proposed rule on the same day as the direct final rule. The proposed rule invited comment on the substance of the direct final rule. The proposed rule stated that if RUS received adverse comment by November 5, 2004, the direct final rule would not take effect, and RUS would withdraw the direct final rule before the November 22, 2004, effective date. RUS subsequently received adverse comments on the direct final rule. RUS plans to address those comments in a subsequent action. Today's action withdraws the direct final rule. The regulations addressing the Household Water Well System Grant Program will not take effect on November 22, 2004.

List of Subjects in 7 CFR Part 1776

Agriculture, Community development, Community facilities, Credit, Grant programs—housing and community development, Nonprofit organizations, Reporting and recordkeeping requirements, Rural areas, Waste treatment and disposal, Water pollution control, Water resources, Water supply, Watersheds.

Dated: November 9, 2004.
Hilda Gay Legg,
Administrator, Rural Utilities Service.

[FR Doc. 04-25491 Filed 11-16-04; 8:45 am]

BILLING CODE 3410-15-P